DEPARTMENT OF DEFENSE

Office of the Secretary

[DOD-2006-OS-0193]

Defense Intelligence Agency; Privacy Act of 1974; System of Records

AGENCY: Defense Intelligence Agency.

ACTION: Notice to add a system of records.

SUMMARY: The Defense Intelligence Agency is proposing to add a system of records to its existing inventory of records systems subject to the Privacy Act of 1974, (5 U.S.C. 552a), as amended.

DATES: The proposed action will be effective on October 5, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974 (5 U.S.C. 552a), as amended, have been published in the Federal Register and are available from the address above.

The proposed system report, as required by 5 U.S.C. 552a(r) of the Privacy Act of 1974, as amended, was submitted on August 22, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 29, 2006.
C.R. Choate,
Alternate OSD Federal Register Liaison Officer, Department of Defense.

LDIA 06-0004

System Name:

Recall Roster.

System Location:

DIA organizational elements and offices.

Categories of Individuals Covered by the System:

Civilian employees, military personnel, and contractors employed, assigned, or detailed to the Defense Intelligence Agency.

Categories of Records in the System:

Individual's name, organizational and home addresses, work/home/cellular telephone/pager numbers, home e-mail account, emergency contact information, contact listing files, organizational telephone directories, and listing of office personnel.

Authority for Maintenance of the System:

5 U.S.C. 301, Departmental Regulations, DoD Directive 3020.26 Continuity of Operations Policy and Planning and DIA Regulations 50-19 Terrorism Emergency Action Procedures. DIA Chief of Staff Memo, U-1950/CS Emergency Notification System.

Purpose(s):

To enable the DIA to recall personnel to their place of duty, for use in emergency notifications, and to perform relevant functions/requirements/actions consistent with managerial functions during an emergency.

Routine Uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses' set forth at the beginning of DIA's compilation of systems of records notices apply to this system.

Policies and Practices for Storing, Retrieving, Accessing, Retaining, and Disposing of Records in the System:

Storage:

Paper and electronic.

Retrievability:

By last name of the individual.

Safeguards:

Records are electronically stored on local hard drives on classified work stations and in paper form at each location. Paper copies are marked with appropriate handling instructions and will be kept in locked cabinets/drawers when not in use. Removal of paper copies outside DoD control is authorized but must be safeguarded when not in use.

Retention and Disposal:

Temporary-Destroy when the employee/military member/contractor departs or is reassigned from DIA.

System Manager(s) and Address:

DIA Privacy Official, Defense Intelligence Agency (DAN-1C), 200 MacDill Blvd, Washington, DC 20340-5100.

Notification Procedure:

Individuals seeking to determine whether information about themselves is contained in this system of records should address written inquiries to the DIA Privacy Office (DAN-1C), Defense Intelligence Agency, 200 MacDill Blvd., Washington DC 20340-5100.

Individuals should provide their full name, current address, and telephone number.

Record Access Procedures:

Individuals seeking access to information about themselves contained in this system of records should address written inquiries to the DIA Privacy Official, Defense Intelligence Agency (DAN-1C), 200 MacDill Blvd., Washington, DC 20340-5100.

Individuals should provide their full name, current address, and telephone number.

Contesting Record Procedures:

DIA's rules for accessing records, for contesting contents and appealing initial agency determinations are published in DIA Regulation 12-12 “Defense Intelligence Agency Privacy Program”; 32 CFR part 319—Defense Intelligence Agency Privacy Program; or may be obtained from the system manager.

Record Source Categories:

Subject individuals.

Exemptions Claimed for the System:

None.

[FR Doc. E6-14626 Filed 9-1-06; 8:45 am]

BILLING CODE 5001-06-P